NEIGHBORHOOD REINVESTMENT CORPORATION

Sunshine Act Meetings

TIME AND DATE: 1:30 p.m., Monday, June 24, 2024

PLACE: 1255 Union Street NE, Suite 500, Washington, DC 20002

STATUS: Parts of this meeting will be open to the public. The rest of the meeting will be closed to the public.

MATTERS TO BE CONSIDERED:

Annual Board of Directors meeting.

The General Counsel of the Corporation has certified that in her opinion, one or more of the exemptions set forth in the Government in the Sunshine Act, 5 U.S.C. 552b(c)(2) and (4) permit closure of the following portion(s) of this meeting:

• Executive (Closed) Session

Agenda

I. Call to Order

II. Sunshine Act Approval of Executive (Closed) Session

III. Executive Session: Report from CEO

IV. Executive Session: Report from CFO

V. Executive Session: Report from General Counsel

VI. Executive Session: Report from CIO

VII. Executive Session: Officer Compensation Review

VIII. Action Item: Approval of Meeting Minutes—March 22 Special Board of Directors Meeting, March 26 Audit Committee Meeting, April 4 Regular Board of Directors Meeting, and April 24 Special Board of Directors Meeting

IX. Action Item: Appointment of Audit Committee Members

X. Action Item: Election of Officers

XI. Action Item: Grants to Capital Corporations

XII. Action Item: Office Lease Expiration Activities (Boston, Denver, and Kansas City)

XIII. Action Item: Approval of JPMorgan Chase Grant

XIV. Action Item: Approval of HUD Housing Counseling Award

XV. Action Item: IT Support Contract—Additional Services Needed

XVI. Discussion Item: Annual Ethics Review

XVII. Discussion Item: Governance Operations Guide Annual Review

XVIII. Discussion Item: Revised Whistleblower Policy (Tentative)

XIX. Discussion Item: Revised Code of Ethical Conduct (Tentative)

XX. Discussion Item: Strategic Plan Update—Overview of External Market Scan

XXI. Appendix: Management Program Background and Updates Other Reports

a. 2024 Board Calendar

b. 2024 Board Agenda Planner

c. CFO Report

i. Financials (through 3/31/24)

ii. Single Invoice Approvals $100K and over

iii. Vendor Payments $350K and over

iv. Exceptions

d. Programs Dashboard

e. Housing Stability Counseling Program (HSCP)

f. Strategic Plan Scorecard—FY2024 Q1

PORTIONS OPEN TO THE PUBLIC: Everything except the Executive (Closed) Session.

PORTIONS CLOSED TO THE PUBLIC: Executive (Closed) Session.

CONTACT PERSON FOR MORE INFORMATION: Jenna Sylvester, Paralegal, (202) 568-2560; jsylvester@nw.org.

Jenna Sylvester,
Paralegal.

[FR Doc. 2024-13354 Filed 6-13-24; 4:15 pm]

BILLING CODE 7570-01-P